FEDERAL COMMUNICATIONS COMMISSION

47 CFR Part 73

[DA 03-1533; MM 00-148; RM-9939, RM-10198]

Radio Broadcasting Services; Archer City, TX, Ardmore, OK, Converse, TX, Durant, OK, Elk City, OK, Flatonia, TX, Georgetown, TX, Healdton, OK, Ingram, TX, Keller, TX, Knox City, TX, Lakeway, TX, Lago Vista, TX, Llano, TX, Lawton, OK, McQueeney, TX, Nolanville, TX, Quanah, TX, Purcell, OK, San Antonio, Seymour, Waco and Wellington, TX

AGENCY: Federal Communications Commission.

ACTION: Proposed rule, dismissal.

SUMMARY: This document dismisses a proposal filed by Nation Wide Radio Stations for the allotment of Channel 233C3 to Quanah, Texas. This document also dismisses a Counterproposal jointly filed by First Broadcasting Company, L.P., Rawhide Radio, L.L.C., Next Media Licensing, Inc., Capstar TX Limited Partnership and Clear Channel Broadcast Licenses, Inc. See 65 FR 53689, published September 5, 2000. With this action, the proceeding is terminated.

FOR FURTHER INFORMATION CONTACT: Robert Hayne, Media Bureau (202) 418-2177.

SUPPLEMENTARY INFORMATION: This is a synopsis of the Commission's Report and Order in MM Docket No. 00-148, adopted May 7, 2003, and released May 8, 2003. The full text of this decision is available for inspection and copying during normal business hours in the FCC's Reference Information Center at Portals II, CY-A257, 445 12th Street, SW., Washington, DC. The complete text of this decision may also be purchased from the Commission's copy contractor, Qualex International, Portals II, 445 12th Street, SW., Room CY-B402, Washington, DC 20554, telephone 202-863-2893, facsimile 202-863-2898, or via e-mail qualexint@aol.com.

Federal Communications Commission.

Federal Communications Commission.
Peter H. Doyle,
Chief, Audio Division, Media Bureau.

[FR Doc. 03-12204 Filed 5-15-03; 8:45 am]

BILLING CODE 6712-01-P